Proclamation 8735 of October 7, 2011

Columbus Day, 2011

By the President of the United States of America

A Proclamation

On October 12, 1492, Christopher Columbus and his crewmembers sighted land after an ambitious voyage across the Atlantic Ocean. The ideals that guided them to this land—courage, determination, and a thirst for discovery—have inspired countless Americans and led to some of our Nation’s proudest accomplishments. Today, we renew our commitment to fostering the same spirit of innovation and exploration that will help future generations reach new horizons.

Ten weeks before his arrival in the Americas, Columbus and his crewmembers set sail from Spain in search of a westward route to Asia. Though their journey was daring, it did not yield the trade route they sought. Instead, it illuminated a continent then unknown to Europe, and established an unbreakable bond between two distant lands.

These explorers, and countless others that followed them, encountered indigenous peoples that had lived in the Western hemisphere for tens of thousands of years. On this day, we also remember the tragic hardships these communities endured. We honor their countless and ongoing contributions to our Nation, and we recommit to strengthening the tribal communities that continue to enrich the fabric of American life.

Columbus returned to the Americas three more times after his first historic voyage, and his journey has been followed by millions of immigrants, including our Nation’s earliest settlers and Founders. Born in Genoa, Italy, Christopher Columbus was the first in a proud tradition of Italians to cross the Atlantic to our shores. Today, we recognize their indelible influence on our country and celebrate the remarkable ways Italian-Americans have shaped the American experience.

The excitement Christopher Columbus and his crewmembers experienced that October morning is felt every day by today’s pioneers: entrepreneurs and inventors, researchers and engineers. On the anniversary of Christopher Columbus’s voyage, we celebrate the pursuit of discovery as an essential element of the American character. Embracing this heritage and inspiring young people to set their own sails, our Nation will reach the shores of an ever brighter tomorrow.

In commemoration of Christopher Columbus’s historic voyage 519 years ago, the Congress, by joint resolution of April 30, 1934, and modified in 1968 (36 U.S.C. 107), as amended, has requested the President proclaim the second Monday of October of each year as “Columbus Day.”

NOW, THEREFORE, I, BARACK OBAMA, President of the United States of America, do hereby proclaim October 10, 2011, as Columbus Day. I call upon the people of the United States to observe this day with appropriate ceremonies and activities. I also direct that the flag of the United States be displayed on all public buildings on the appointed day in honor of our diverse history and all who have contributed to shaping this Nation.

IN WITNESS WHEREOF, I have hereunto set my hand this seventh day of October, in the year of our Lord two thousand eleven, and of the Independence of the United States of America the two hundred and thirty-sixth.

[FR Doc. 2011-26727

Filed 10-12-11; 11:15 am]

Billing code 3295-F2-P